DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's (RBS) intention to revise a currently approved information collection in support of the program for the Annual Survey of Farmer Cooperatives, as authorized in the Cooperative Marketing Act of 1926.

DATES: Comments on this notice must be received by October 2, 2017 to be assured of consideration.

ADDRESSES: Interested persons are invited to submit comments regarding this revision. Comments should refer to the information collection by name and/or OMB Control Number and should be sent to: James Wadsworth, Policy and Research Branch, RBS, U.S. Department of Agriculture, STOP 3254, 1400 Independence Avenue SW., Washington, DC 20250-3254, (202) 720-7395 (this is not a toll-free number) or email james.wadsworth@wdc.usda.gov for a copy of the information collection or other available information.

FOR FURTHER INFORMATION CONTACT: James Wadsworth, Policy and Research Branch, RBS, U.S. Department of Agriculture, STOP 3254, 1400 Independence Avenue SW., Washington, DC 20250-3254, Telephone (202) 720-7395 (this is not a toll-free number) or send an email message to: james.wadsworth@wdc.usda.gov.

SUPPLEMENTARY INFORMATION:

Title: Annual Survey of Farmer Cooperatives.

OMB Number: 0570-0007.

Expiration Date of Approval: November 30, 2017.

Type of Request: Revision of a currently approved information collection.

Abstract: A primary objective of Rural Business-Cooperative Service (RBS) is to promote understanding, use and development of the cooperative form of business as a viable option for enhancing the income of agricultural producers and other rural residents. RBS direct role is providing knowledge to improve the effectiveness and performance of farmer cooperative businesses through technical assistance, research, information, and education. The annual survey of farmer cooperatives collects basic statistics on cooperative business volume, net income, members, financial status, employees, and other selected information to support RBS' objective and role. Cooperative statistics are published in various reports and used by the U.S. Department of Agriculture, cooperative management and members, educators and researchers, and others in planning and in promoting the cooperative form of business.

Estimate of Burden: Public reporting burden for this collection of information is estimated to average 1 hour or less per response.

Respondents: Farmer cooperatives.

Estimated Number of Respondents: 1,175.

Estimated Number of Responses per Respondent: 1.

Estimated Number of Responses: 1,175.

Estimated Total Annual Burden on Respondents: 1,160 Hours.

Comments

Comments are invited on: (1) Whether the proposed collection of information is necessary for the proper performance of the functions of RBS, including whether the information will have practical utility; (2) the accuracy of the RBS' estimate of the burden of the proposed collection of information, including the validity of the methodology and assumptions used; (3) ways to enhance the quality, utility, and clarity of the information to be collected; and (4) ways to minimize the burden of the collection of information on those who are to respond, including through the use of appropriate automated, electronic, mechanical, or other technological collection techniques or forms of information technology. Comments may be sent to Jeanne Jacobs, Regulations and Paperwork Management Branch, U.S. Department of Agriculture, Rural Development, Stop 0742, 1400 Independence Ave. SW., Washington, DC 20250. All comments received will be available for public inspection during regular business hours at the same address.

All responses to this notice will be summarized and included in the request for Office of Management and Budget approval. All comments will become a matter of public record.

Dated: July 25, 2017.
Chad Parker,
Acting Administrator, Rural Business-Cooperative Service.

[FR Doc. 2017-16183 Filed 8-1-17; 8:45 am]

BILLING CODE 3410-XY-P